DEPARTMENT OF LABOR

Pension and Welfare Benefits Administration

Proposed Extension of Information Collection Request Submitted for Public Comment and Recommendations; Notice of Special Enrollment Rights, Health Insurance Portability for Group Health Plans; Correction

AGENCY: Pension and Welfare Benefits Administration, Department of Labor.

ACTION: Correction.

SUMMARY: In notice document 99-33599 beginning on page 72696 in the issue of Tuesday, December 28, 1999, make the following correction:

On page 72697 in the first column in the second paragraph, the submission date for written comments was on or before January 27, 2000. It should be changed to read on or before February 28, 2000.

Dated: January 19, 2000.
Gerald B. Lindrew,
Deputy Director, Office of Policy and Research Pension and Welfare Benefits Administration.

[FR Doc. 00-1637 Filed 1-21-00; 8:45am]

BILLING CODE 4510-29-M